DEPARTMENT OF THE INTERIOR

Bureau of Land Management

[14X LLIDT03100.L17110000.DF0000.241A00; 4500073052]

Notice of Availability of the Draft Craters of the Moon National Monument and Preserve Plan Amendment and Environmental Impact Statement, Idaho

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Monument Management Plan (MMP) Amendment and Draft Environmental Impact Statement (EIS) for the Craters of the Moon National Monument and Preserve (Monument) and by this notice is announcing the opening of the public comment period.

DATES: To ensure that comments will be considered, the BLM must receive written comments on the Draft MMP Amendment/Draft EIS by December 29, 2016. The BLM will announce future meetings or hearings and any other public participation activities at least 15 days in advance through public notices, media releases, and/or mailings.

ADDRESSES: You may submit comments related to the Draft MMP Amendment/Draft EIS by any of the following methods:

• Web site: http://www.blm.gov/id/st/en/prog/nepa_register/Craters-plan-amdt_2013.html.

• email: BLM_ID_CRMO@blm.gov.

• fax: 208-732-7317.

• mail: BLM Shoshone FO, 400 West F Street, Shoshone, ID 83352.

Copies of the Draft MMP Amendment/Draft EIS are available in the Shoshone Field Office at the above address.

FOR FURTHER INFORMATION CONTACT: Lisa Cresswell, Planning Team Lead, telephone 208-732-7200; BLM Shoshone Field Office, 400 West F Street Shoshone, ID 83352; email BLM_ID_CRMO@blm.gov. Persons who use a telecommunications device for the deaf (TDD) may call the Federal Information Relay Service (FIRS) at 1-800-877-8339 to contact Ms. Cresswell. The FIRS is available 24 hours a day, 7 days a week, to leave a message or question for Ms. Cresswell. You will receive a reply during normal business hours.

SUPPLEMENTARY INFORMATION: The Draft MMP Amendment/Draft EIS for the Craters of the Moon National Monument and Preserve (Monument) is now available. The BLM prepared this document in consultation with cooperating agencies and in accordance with NEPA, FLPMA, implementing regulations, the BLM's Land Use Planning Handbook (H-1601-1) and National Environmental Policy Handbook (H-1790-1), and other applicable law and policy, including BLM Instruction Memorandum No. 2016-105, Land Use Planning and Environmental Policy Act Compliance within Greater Sage-Grouse Approved Resource Management Plans and Plan Amendments Decision Area.

The original Monument was created in 1924 by President Calvin Coolidge and was expanded in 2000 by President Bill Clinton. The Monument is part of the BLM's National Conservation Lands and one of two BLM national monuments jointly managed with the National Park Service. The MMP covers the approximately 275,100 BLM-managed acres of the 753,200-acre Monument.

In 2011, the U.S. District Court for the District of Idaho found that the 2007 MMP/EIS did not adequately consider current science and agency policies designed to protect Greater Sage-Grouse (GRSG) habitat, particularly with regard to managing livestock grazing in the Monument. The court also found that BLM violated NEPA by failing to analyze a sufficient range of livestock grazing alternatives. In September 2015, the BLM issued a decision amending BLM land use plans in Idaho and Southwestern Montana to address GRSG conservation, including the 2007 Craters of the Moon MMP. The 2015 decision and supporting analysis addressed several of the deficiencies identified by the Court with regard to GRSG conservation in the Monument, but the BLM determined that issues such as the location and amount of livestock grazing and protection of Monument values required additional analysis, which is addressed in this Draft MMP Amendment/Draft EIS.

The Draft MMP Amendment/Draft EIS analyzes management options for the BLM-managed portions of the Monument that were not evaluated in the EIS for the 2007 MMP, as amended by the 2015 Sage-Grouse Approved Resource Management Plan Amendment (ARMPA). This Draft MMPA/EIS will amend the 2007 plan, but will not change decisions from the 2015 Sage-Grouse ARMPA. Its purpose is to consider a range of reasonable alternatives for managing livestock grazing and GRSG on BLM-managed lands in the Monument in a manner that maintains the values identified in the Presidential Proclamations that established and expanded it. The range of alternatives is broad, from those that would reduce the area available for grazing to those that would make the entire planning area unavailable for grazing.

The Draft MMP Amendment/Draft EIS analyzes five alternatives that provide a range of livestock grazing levels and availability. Alternative C is the BLM's preferred alternative. Alternative A, the no action alternative, would continue the management established in the 2007 MMP as amended by the 2015 Sage-Grouse ARMPA. Under the No Action Alternative, 273,900 acres would be available for livestock grazing, with 38,187 animal unit months (AUMs).

Alternative B would reduce AUMs available for livestock grazing by 75 percent (making 9,432 AUMs available) and close five areas to grazing: Little Park kipuka, the North Pasture of Laidlaw Park Allotment, Larkspur Park kipuka, the North Pasture of Bowl Crater Allotment, and Park Field kipuka. This alternative would adjust two allotment boundaries to make 21,000 acres unavailable for livestock grazing and for the protection of GRSG and other Monument values. A total of 254,100 acres would be available for livestock grazing.

Alternative C, the agency-preferred alternative, would make 273,600 acres available for livestock grazing and adjust two allotment boundaries, which would set the maximum number of AUMs at 37,792. Where appropriate, livestock grazing would be used as a tool to improve and/or protect wildlife habitat. Guidelines for livestock grazing management would be set based on vegetation and wildlife habitat conditions and needs, consistent with the 2015 Sage-Grouse ARMPA.

Alternative D would eliminate livestock grazing from BLM-managed lands within the Monument boundary (0 acres and 0 AUMs available) and adjust two allotment boundaries. All livestock-related developments would be removed, while some fences might be required to exclude livestock from the Monument.

Alternative E would reduce AUMs available for livestock grazing by approximately 50 percent (making 19,388 AUMs available) and close Larkspur Park kipuka to grazing. This alternative would adjust two allotment boundaries and make 272,900 acres available for grazing. No net gain in livestock-related infrastructure would be allowed.

The land use planning process was initiated on June 28, 2013, through a Notice of Intent published in the Federal Register, notifying the public of a formal scoping period and soliciting public participation in the planning process. Four scoping meetings were held in July 2013 in Arco, Carey, Rupert, and American Falls, Idaho. Based on public input regarding relevant issues to consider in the planning process and BLM goals and objectives, the BLM formulated the five alternatives considered and analyzed in the Draft MMP Amendment/Draft EIS. Because nominations for the designation of areas of critical environmental concern (ACECs) were previously analyzed for the 2007 MMP, the BLM did not solicit new ACEC nominations during scoping.

Following the close of the public review and comment period, the Draft MMP Amendment/Draft EIS will be revised in preparation for its release as the Proposed MMP Amendment and Final EIS. The BLM will respond to substantive comments by making appropriate revisions to the document or explain why a comment did not warrant a change.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Timothy M. Murphy,
BLM Idaho State Director.

[FR Doc. 2016-23566 Filed 9-29-16; 8:45 am]

BILLING CODE 4310-GG-P